ENVIRONMENTAL PROTECTION AGENCY

[Docket No. EPA-R02-OAR-2006-0342; FRL-8181-7]

Adequacy Status of the Submitted 2009 Early Progress Direct PM2.5 and NOX Motor Vehicle Emission Budgets for Transportation Conformity Purposes for Northern New Jersey

AGENCY: Environmental Protection Agency (EPA).

ACTION: Notice of adequacy.

SUMMARY: In this notice, EPA is notifying the public that we have found that the motor vehicle emissions budgets (“budgets”) for direct PM2.5 and NOX in the submitted PM2.5 early progress state implementation plan (SIP) for the New Jersey portion of the New York-Northern New Jersey-Long Island, NY-NJ-CT PM2.5 nonattainment area to be adequate for transportation conformity purposes. The transportation conformity rule requires that the EPA conduct a public process and make an affirmative decision on the adequacy of budgets before they can be used by metropolitan planning organizations (MPOs) in conformity determinations. As a result of our finding, the MPOs in northern New Jersey, the North Jersey Transportation Planning Authority (NJTPA) and the Delaware Valley Regional Planning Commission (DVRPC), must use the new 2009 direct PM2.5 and NOX budgets from the early progress PM2.5 SIP for future conformity determinations.

DATES: This finding is effective June 23, 2006.

FOR FURTHER INFORMATION CONTACT: Matt Laurita, Air Programs Branch, Environmental Protection Agency—Region 2, 290 Broadway, 25th Floor, New York, New York 10007-1866, (212) 637-3895, laurita.matthew@epa.gov.

The finding and the response to comments will be available at EPA's conformity Web site: http://www.epa.gov/otaq/stateresources/transconf/adequacy.htm.

SUPPLEMENTARY INFORMATION:

Background

Today's notice is simply an announcement of a finding that we have already made. EPA Region 2 sent a letter to the New Jersey Department of Environmental Protection on May 31, 2006 stating that the 2009 direct PM2.5 and NOX budgets in the submitted early progress SIP for Northern New Jersey (dated May 18, 2006) are adequate for conformity purposes. The purpose of New Jersey's May 18, 2006 submittal was to establish budgets for the metropolitan planning organizations in northern New Jersey to use in making conformity determinations. EPA's adequacy finding will also be announced on EPA's conformity Web site: http://www.epa.gov/otaq/stateresources/transconf/adequacy.htm.

Transportation conformity (40 CFR part 93) is required by section 176(c) of the Clean Air Act. EPA's conformity rule requires that transportation plans, programs, and projects conform to SIPs and establishes the criteria and procedures for determining whether or not they conform. Conformity to a SIP means that transportation activities will not produce new air quality violations, worsen existing violations, or delay timely attainment of the National Ambient Air Quality Standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We have described our process for determining the adequacy of submitted SIP budgets in 40 CFR 93.118(f). We have followed this rule in making our adequacy determination.

Authority: 42 U.S.C. 7401-7671q.

Dated: May 26, 2006.
Alan J. Steinberg,
Regional Administrator, Region 2.

[FR Doc. E6-8936 Filed 6-7-06; 8:45 am]

BILLING CODE 6560-50-P